FEDERAL COMMUNICATIONS COMMISSION

Public Information Collections Approved by Office of Management and Budget

March 29, 2004.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW, Washington DC, 20554, (202) 418-1359 or via the Internet at plaurenz@fcc.gov.

SUPPLEMENTARY INFORMATION: OMB Control No.: 3060-0855.

OMB Approval date: 3/16/2004.

Expiration Date: 3/31/2007.

Title: Telecommunications Reporting Worksheet, CC Docket No. 96-45.

Form No.: FCC Forms 499 (FCC Forms 499-A and 499-Q).

Estimated Annual Burden: 15,500 responses; 175,487 total annual hours; 11-12 hours per respondent.

Needs and Uses: Pursuant to the Communications Act of 1934, as amended, telecommunications carriers (and certain other providers of telecommunications services) must contribute to the support and cost recovery mechanisms for telecommunications relay services, numbering administration, number portability, and universal service. The Commission is now seeking to collect information concerning carriers' uncollectible revenue information consistent with Part 54 of its rules, as revised in the Interim Contribution Methodology Order of Dec. 2002.

OMB Control No.: 3060-0804.

OMB Approval date: 3/16/2004.

Expiration Date: 3/31/2007.

Title: Universal Service—Health Care Providers Universal Service Program.

Form No.: FCC 465, 466, 466-A and 467.

Estimated Annual Burden: 14,400 responses; 17,600 total annual hours; 1-2 hours per respondent.

Needs and Uses: In this Further Notice of Proposed Rulemaking, we seek comment on ways to streamline further the application process and expand outreach efforts regarding the rural health care universal service support mechanism. The Commission implemented the rural health care mechanism at the direction of Congress as provided in the Telecommunications Act of 1996 (1996 Act). In past years of its operation, the rural health care mechanism has provided discounts that have facilitated the ability of health care providers to provide critical access to modern telecommunications and information services for medical and health maintenance purposes to rural America. Participation in the rural health care universal service support mechanism, however, has not met the Commission's projections. The Commission finds it appropriate to assess whether our rules and policies require modification.

Federal Communications Commission.
Marlene H. Dortch,
Secretary.

[FR Doc. 04-8484 Filed 4-13-04; 8:45 am]

BILLING CODE 6712-01-P